DEPARTMENT OF THE INTERIOR

Bureau of Ocean Energy Management

Outer Continental Shelf Official Protraction Diagrams and Supplemental Official Outer Continental Shelf Block Diagrams; MMAA104000

AGENCY: Bureau of Ocean Energy Management, Interior.

ACTION: Notice.

SUMMARY: Notice is hereby given of the availability of certain North American Datum of 1983 (NAD 83) based Outer Continental Shelf (OCS) Official Protraction Diagrams (OPDs) and Supplemental Official OCS Block Diagrams (SOBDs) depicting geographic areas located in the Atlantic Ocean. The Bureau of Ocean Energy Management (BOEM), in accordance with its authority and responsibility under the Outer Continental Shelf Lands Act, is announcing the availability of maps used for the description of renewable energy, mineral, and oil and gas lease sales in the geographic areas they represent.

FOR FURTHER INFORMATION CONTACT: Douglas Vandegraft, Chief, Mapping and Boundary Branch at (703) 787-1312 or via email at Doug.Vandegraft@boem.gov.

SUPPLEMENTARY INFORMATION: By correspondence dated July 27, 2016, the Commonwealth of Virginia requested that BOEM update official maps to reflect the offshore lateral boundaries that divide the waters within the Commonwealth of Virginia from the state waters of North Carolina and Maryland. This request is directly related to a current joint effort by the Commonwealth and BOEM to permanently immobilize the Submerged Lands Act Boundary offshore of Virginia through a decree from the U.S. Supreme Court. The lateral boundary dividing Virginia and North Carolina was determined by Congress through Public Law 92-588 of October 27, 1972. The lateral boundary dividing Virginia and Maryland was determined by Congress through Public Law 92-565 of October 25, 1972. The Submerged Lands Act boundaries depicted in the revised diagrams were prepared using the state boundaries established by Congress.

Accordingly, OPD NJ18-11 (Currituck Sound), dated November 1, 2016, has been revised to reflect the Virginia-North Carolina lateral boundary. OPD NJ18-05 (Salisbury) dated November 1, 2016, has been revised to reflect the Virginia-Maryland lateral boundary. Both lateral boundaries extend directly east from the shoreline of the Atlantic Ocean and terminate at the Submerged Lands Act Boundary, which is located three nautical miles east and parallel to the shoreline. SOBDs 6505 and 6506, dated November 1, 2016, located within OPD NJ18-11 (Currituck Sound), have been revised to reflect the intersection of the Virginia-North Carolina lateral boundary with the Submerged Lands Act Boundary. SOBD 7117, dated November 1, 2016, located within NJ18-05 (Salisbury), has been revised to reflect the intersection of the Virginia-Maryland lateral boundary with the Submerged Lands Act Boundary. On December 12, 2016, the Commonwealth of Virginia signed the subject SOBDs, indicating its concurrence with the BOEM depiction of the lateral boundaries and boundary intersections.

Revised Outer Continental Shelf Official Protraction Diagrams in the Atlantic Ocean

Description/Date

NJ18-11 (Currituck Sound)—11/01/2016

NJ18-05 (Salisbury)—11/01/2016

Revised Supplemental Official Outer Continental Shelf Block Diagrams in the Atlantic Ocean, Located Within Official Protraction Diagram NJ18-11 (Currituck Sound)

Diagram Revised/Date/Block Numbers

Submerged Lands Act blocks (Total of 2)—11/01/2016: 6505, 6506

Revised Supplemental Official Outer Continental Shelf Block Diagram in the Atlantic Ocean, Located Within Official Protraction Diagram NJ18-05 (Salisbury)

Diagram Revised/Date/Block Numbers

Submerged Lands Act block—11/01/2016: 7117

Copies of the revised OPDs and SOBDs are available for download in .pdf format from https://www.boem.gov/Oil-and-Gas-Energy-Program/Mapping-and-Data/Atlantic.aspx.

Dated: February 16, 2017.
Walter D. Cruickshank,
Acting Director, Bureau of Ocean Energy Management.

[FR Doc. 2017-03546 Filed 3-2-17; 8:45 am]

BILLING CODE 4310-MR-P